DEPARTMENT OF COMMERCE

National Oceanic and Atmospheric Administration

RIN 0648-XG808

Fisheries of the Northeastern United States; Atlantic Sea Scallop Fishery; Intent To Prepare an Environmental Impact Statement; Scoping Process; Request for Comments

AGENCY: National Marine Fisheries Service (NMFS), National Oceanic and Atmospheric Administration (NOAA), Commerce.

ACTION: Notice.

SUMMARY: The New England Fishery Management Council announces its intention to prepare, in cooperation with NMFS, an environmental impact statement in accordance with the National Environmental Policy Act. An environmental impact statement may be necessary to provide analytic support for Amendment 21 to the Atlantic Sea Scallop Fishery Management Plan. Amendment 21 would consider measures related to the Northern Gulf of Maine Scallop Management Area, Limited Access General Category individual fishing quota possession limits, and the ability of Limited Access vessels with Limited Access General Category individual fishing quota permits to transfer quota to Limited Access General Category individual fishing quota-only vessels. The purpose of this notice is to announce a public process for determining the scope of issues to be addressed, to alert the interested public of the scoping process, the potential development of a draft environmental impact statement, and the opportunity for participation in that process.

DATES: Written and electronic scoping comments must be received on or before April 15, 2019.

ADDRESSES: Written scoping comments on Amendment 21 may be sent by any of the following methods:

• Email to the following address: comments@nefmc.org;

• Mail to Thomas A. Nies, Executive Director, New England Fishery Management Council, 50 Water Street, Mill 2, Newburyport, MA 01950; or Fax to (978) 465-3116.

The scoping document is accessible electronically online at www.nefmc.org/library/amendment-21.

Requests for copies of the Amendment 21 scoping document and other information should be directed to Thomas A. Nies, Executive Director, New England Fishery Management Council, 50 Water Street, Mill 2, Newburyport, MA 01950, telephone, (978) 465-0492.

FOR FURTHER INFORMATION CONTACT: Thomas A. Nies, Executive Director, New England Fishery Management Council, (978) 465-0492.

SUPPLEMENTARY INFORMATION:

Background

The Atlantic sea scallop fishery is prosecuted along the east coast from Maine to Virginia, although most fishing activity takes place between Massachusetts and New Jersey. Management measures were first adopted in 1982, but there have been several major revisions to the management program over the following decades.

Development of the LAGC Fishery

The Council established the General Category component as an open access permit category in 1994 while developing a limited access program for qualifying vessels (now the Limited Access component). Through Amendment 11 to the Scallop Fishery Management Plan (FMP) (73 FR 20090; April 14, 2008), the Council transitioned the General Category component from open access to limited access to limit fishing mortality and control fleet capacity. The Council's vision for the Limited Access General Category (LAGC) component was a fleet made up of relatively small vessels, with possession limits to maintain the historical character of this fleet and provide opportunities to various participants, including vessels from smaller coastal communities. Amendment 11 established three LAGC permit categories which allowed for continued participation in the General Category fishery at varying levels. Vessels that met a qualifying criteria were issued an LAGC individual fishing quota (IFQ) permit and allocated quota based on the `contribution factor' (i.e., if you fished longer and landed more during the qualification period, you received a higher allocation). General Category permit holders that did not meet the qualifying criteria for an LAGC IFQ permit were eligible to receive either an LAGC Northern Gulf of Maine (NGOM) permit or LAGC Incidental permit. Limited Access vessels that fished under General Category rules and qualified under the same IFQ qualification criteria were issued LAGC IFQ permits and allocated a portion of (0.5 percent) of the total scallop allocation. Unlike vessels with only LAGC IFQ permits, Limited Access vessels that also qualified for an LAGC IFQ permit were not allowed to transfer quota in or out.

NGOM Management Area

The Council also established the NGOM Management Area and permit category through Amendment 11. The area was developed to enable continued fishing and address concerns related to conservation, administrative burden, and enforceability of scallop fishing within the Gulf of Maine. Amendment 11 authorized vessels with either an LAGC NGOM permit or LAGC IFQ permit to fish within the NGOM Management Area at a 200-pound-per-day trip limit until the annual total allowable catch (TAC) for the area is caught. The Council did not recommend restrictions on Limited Access vessels fishing in the NGOM because the improved management and abundance of scallops in the major resource areas on Georges Bank and in the Mid-Atlantic region made access to Gulf of Maine scallops less important for the Limited Access boats and General Category boats from other regions. From 2008 through the end of fishing year 2017, Limited Access vessels were able to operate in the NGOM management area under days-at-sea (DAS) management as long as the LAGC TAC had not been caught. The initial measures were intended to allow directed scallop fishing in the NGOM, and the Council envisioned that management of this area would be reconsidered if the scallop population and fishery in the NGOM grew in the future.

From 2009-2015 the NGOM TAC of 70,000 lbs was not caught, and the fishery remained open for the entire year. In fishing year 2016 and fishing year 2017 there was a notable increase in effort in the NGOM management area by both LAGC and Limited Access vessels fishing the large year class of scallops on Stellwagen Bank. Monitoring removals by the Limited Access component in the NGOM was challenging because vessels could fish both inside and outside NGOM management area while fishing DAS on the same trip.

In response to the increase in effort and landings in the NGOM area in 2016 and 2017, the Council developed a problem statement for the Federal scallop fishery in the NGOM management area:

Recent high landings and unknown biomass in the NGOM Scallop Management Area underscore the critical need to initiate surveys and develop additional tools to better manage the area and fully understand total removals.

Recent actions have developed measures that allow managers to track fishing effort and landings by all components from the NGOM management area. The NGOM TAC is now based on recent survey information, with separate TACs for the Limited Access and LAGC components. These measures are intended to be a short-term solution to allow controlled fishing in the NGOM management area until a future action (this action) could be developed to address NGOM issues more holistically.

LAGC IFQ Possession Limits

The initial General Category possession limit was set at 400 pounds per trip through Amendment 4 (59 FR 2757; January 19, 1994). In 2007, Amendment 11 maintained the General Category possession limit of 400 pounds for qualifying IFQ vessels. Amendment 15 (76 FR 43746; July 21, 2011) increased the LAGC IFQ possession limit to 600 pounds following concerns from industry members that the 400-pound possession limit was not economically feasible due to increased operating costs. The 200-pound trip limit increase was not expected to change the nature of the “dayboat” fishery and would keep the LAGC IFQ component consistent with the vision statement laid out by the Council in Amendment 11. The Council has recently completed a program review of the LAGC IFQ fishery and analyzed the impacts of changes to IFQ trip limits. The results of this work are summarized in the Amendment 21 scoping document, which can be found at this link: https://www.nefmc.org/library/amendment-21.

Quota Transfers by Limited Access/LAGC IFQ Vessels

Amendment 15 allowed LAGC IFQ permit holders to permanently transfer some or all of their quota allocation to another LAGC IFQ permit holder while retaining the permit itself. During development of Amendment 15, the Council considered an option that would have included Limited Access/LAGC IFQ permit holders in this allowance; however, the Council opted against this option because it would change the overall 5 percent and 0.5 percent allocations specified in Amendment 11. For example, the 5 percent allocation would be expected to increase if a Limited Access/LAGC IFQ vessel permanently transferred quota to an LAGC IFQ-only vessel and, therefore, would have implications on quota accumulation caps that apply to LAGC IFQ-only permit holders (i.e., 5 percent maximum for owners, 2.5 percent maximum for individual vessels).

Measures Under Consideration

NGOM Management Area

The Council is planning to develop measures that will support a growing directed scallop fishery in Federal waters in the NGOM. To do so, the action will consider measures that would prevent unrestrained removals from the NGOM management area and allow for orderly access to the scallop resource in this area by the LAGC and Limited Access components. This includes establishing mechanisms to set allowable catches and accurately monitor catch and bycatch.

LAGC IFQ Possession Limits and Limited Access Quota Transfers to LAGC IFQ Vessels

The Council is planning to develop measures that will increase the LAGC IFQ possession limit and allow Limited Access vessels to transfer IFQ to LAGC IFQ vessels to improve overall economic performance of the LAGC IFQ component. The Council is taking action to ensure that the LAGC IFQ component remains profitable, and that there is continued participation in the General Category fishery at varying levels. To do so, the action will consider approaches that aim to reduce the impacts of decreases in ex-vessel price and increases to fixed costs (e.g., maintenance and repairs) and variable costs (e.g., trip expenses including fuel, food, oil, ice, and water), on vessels and crews.

Public Comment

All persons affected by or otherwise interested in scallop fishery management are invited to participate in commenting on the scope and significance of issues to be analyzed by submitting written comments (see ADDRESSES) or by attending one of the 10 scoping meetings, including one webinar, for this amendment. Scoping consists of identifying the range of actions, alternatives, and possible impacts to be considered. After the scoping process is completed, the Council will begin development of Amendment 21 and expects to prepare an environmental impact statement (EIS) to analyze the impacts of the range of alternatives for the changes considered in this action. The Council will hold public hearings to receive comments on the draft amendment and on the analysis of its impacts presented in the Draft EIS.

The Council will take and discuss scoping comments on this amendment at the following public meetings:

Date and time | Location
Rockland, ME, Thursday, February 28, 2019, 1:00 p.m.-3:00 p.m | Samoset Resort, 220 Warrenton Street, Rockport, ME 04856, Telephone: (207) 594-2511.
Riverhead, NY, Thursday, March 7, 2019, 6:00 p.m.-7:30 p.m | Hotel Indigo, 1830 West Main Street, Route 25, Riverhead, NY 11901, Telephone: (631) 369-2200.
Narragansett, RI, Friday, March 8, 2019, 3 p.m.-4:30 p.m | Corless Auditorium, University of Rhode Island, Graduate School of Oceanography, 215 South Ferry Road, Narragansett, RI 02882, Telephone: (401) 874-6222.
New Bedford, MA, Wednesday, March 20, 2019, 6 p.m.-8 p.m | Waypoint Event Center, 185 MacArthur Drive, New Bedford, MA 02740, Telephone: (774) 634-2099.
Chatham, MA, Thursday, March 21, 2019, 6 p.m.-8 p.m | Chatham Community Center, 702 Main Street, Chatham, MA 02633, Telephone: (508) 945-5175.
Webinar, Friday, March 22, 2019, 10 a.m.-noon | https://attendee.gotowebinar.com/register/8181759988548273922. After registering, you will receive a confirmation email containing information about joining the webinar.
Hampton, VA, Monday, March 25, 2019, 6:00 p.m.-7:30 p.m | Embassy Suites, 1700 Coliseum Drive, Hampton, VA 23666, Telephone: (757) 827-8200.
Cape May, NJ, Tuesday, March 26, 2019, 6:00 p.m.-7:30 p.m | Grand Hotel of Cape May, 1045 Beach Avenue, Cape May, NJ 08204, Telephone: (609) 884-5611.
Manahawkin, NJ, Wednesday, March 27, 2019, 10 a.m.-11:30 a.m | Holiday Inn, 151 Route 72 West, Manahawkin, NJ 08050, Telephone: (609) 481-6100.
Gloucester, MA, Wednesday, April 3, 2019, 6:00 p.m.-8:00 p.m | Massachusetts Division of Marine Fisheries, 30 Emerson Ave., Gloucester, MA 01930, Telephone: (978) 282-0308.

Special Accommodations

The meetings are accessible to people with physical disabilities. Requests for sign language interpretation or other auxiliary aids should be directed to Thomas A. Nies (see ADDRESSES) at least five days prior to meeting dates.

Authority: 16 U.S.C. 1801 et seq.

Dated: February 26, 2019.
Karen H. Abrams,
Acting Director, Office of Sustainable Fisheries, National Marine Fisheries Service.

[FR Doc. 2019-03782 Filed 2-27-19; 4:15 pm]

BILLING CODE 3510-22-P